DEPARTMENT OF COMMERCE

National Telecommunications and Information Administration

Agency Information Collection Activities; Submission to the Office of Management and Budget (OMB) for Review and Approval; Comment Request; Infrastructure Investment and Jobs Act—Application for Broadband Grant Programs

AGENCY: National Telecommunications and Information Administration (NTIA), Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 25, 2022.

ADDRESSES: Interested persons are invited to submit written comments by mail to Teri Caswell, Broadband Program Specialist, Grants Management and Compliance, Office of internet Connectivity and Growth, National Telecommunication and Information Administration, U.S. Department of Commerce, 1401 Constitution Avenue NW, Room 4826, Washington, DC 20230, or by email to broadbandusa@ntia.gov. Please reference, “Digital Equity & Middle Mile Application Forms Comment” in the subject line of your comments. Do not submit Confidential Business Information or otherwise sensitive or protected information.

FOR FURTHER INFORMATION CONTACT: Requests for additional information or specific questions related to collection activities should be directed to Teri Caswell, Broadband Program Specialist, Grants Management and Compliance, Office of internet Connectivity and Growth, National Telecommunication and Information Administration, U.S. Department of Commerce, 1401 Constitution Avenue NW, Room 4826, Washington, DC 20230, or via email at tcaswell@ntia.gov; broadbandusa@ntia.gov; or via telephone at (202) 482-2048.

SUPPLEMENTARY INFORMATION:

I. Abstract

The Infrastructure Investment and Jobs Act, 2021 (Infrastructure Act or Act), which was adopted on November 15, 2021, and is also known as the Bipartisan Infrastructure Law, provided $65 billion of funding for programs to close the digital divide and ensure that all Americans have access to reliable, high speed, and affordable broadband service. NTIA administers six broadband connectivity grant programs funded by the Act, including the State Digital Equity Planning Grant Program and the Enabling Middle Mile Broadband Infrastructure Program. The State Digital Equity Planning Grant Program (SDEPG) provides new federal funding for grants to eligible applicants for the purpose of developing State Digital Equity Plans. Through these Plans, each State will, among other things, identify barriers to digital equity in the State and strategies for overcoming those barriers. Further, U.S. territories and possessions (other than Puerto Rico), Indian Tribes, Alaska Native entities, and Native Hawaiian organizations may also seek grants, cooperative agreements, or contracts to develop their own digital equity plans and, in the case of Tribal entities, to provide input into the digital equity plans of the States in which they are located. The purpose of SDEPG is to promote the achievement of digital equity, support digital inclusion activities, and build capacity for efforts by States relating to the adoption of broadband by residents of those States.

The Enabling Middle Mile Broadband Infrastructure Program (MMG) provides funding for the construction, improvement, or acquisition of middle mile infrastructure. The purpose of the grant program is to expand and extend middle mile infrastructure to reduce the cost of connecting areas that are unserved or underserved to the internet backbone.

On May 13, 2022, NTIA published the State Digital Equity Program's Notice of Funding Opportunity (NOFO) and the Enabling Middle Mile Grant Program's NOFO on internetForAll.Gov to describe the requirements under which it will award grants for the SDEPG and MMG.¹ The SDEPG NOFO outlines a separate process for U.S. Territories and Possessions, Indian Tribes, Alaska Native Entities, and Native Hawaiian organizations to submit applications for SDEPG funding.

¹ See State Digital Equity Planning Grant Program (DE) Notice of Funding Opportunity (NOFO) (May 13, 2022), https://www.internetforall.gov/program/digital-equity-act-programs. See also Middle Mile Grant Program (MM) Notice of Funding Opportunity (NOFO) (May 13, 2022), https://www.internetforall.gov/program/enabling-middle-mile-broadband-infrastructure-program.

In past application processes, such as those funded through the Consolidated Appropriations Act of 2021, NTIA provided broad guidelines to collect programmatic and project data, such as project descriptions and detailed budget information, from applicants. This approach resulted in an increased burden for both applicants and reviewers, as vital information was often left out of their application. Many applicants are Tribal governments or entities who do not possess the resources necessary for the preparation of application materials, such as project narratives and financial information, without templates to guide them. As such, NTIA sought to make this process more equitable for potential applicants of the State Digital Equity Planning Grant program and Enabling Middle Mile Broadband Infrastructure Program by providing more concrete guidance to potential applicants about NTIA's expectations for application submissions, with the goal of making the process more accessible regardless of organizational capacity. NTIA created new forms for use in the application process to provide more structured questions and guidance. These forms supported program objectives by improving both the accuracy and consistency of application information while reducing the administrative burden to both applicants and NTIA.

NTIA received emergency OMB approval to collect information from applicants using these new forms and is now seeking an extension beyond the November 30, 2022, expiration date.

NTIA will use the information collected from each applicant to effectively review the proposed applications and budgets from U.S. Territories and Possessions, Indian Tribes, Alaska Native Entities, and Native Hawaiian organizations for the State Digital Equity Program, and from States, political subdivisions of States, Tribal governments, technology companies, electric utilities, utility cooperatives, public utility districts, telecommunications companies, telecommunications cooperatives, non-profit foundations, and other eligible entities for the Middle Mile Grant Program.

II. Method of Collection

NTIA will collect data through both electronic and mail submission.

III. Data

OMB Control Number: 0660-0046.

Form Number(s): TBD.

Type of Review: Extension of a current information collection.

Affected Public (SDEPG): Territories or possessions of the United States, Indian Tribes, Alaska Native entities, and Native Hawaiian organizations applying for Infrastructure Act Broadband Grant Program funding.

Affected Public (MMG): States, political subdivisions of a State, Tribal governments, technology companies, electric utilities, utility cooperatives, public utility districts, telecommunications companies, telecommunications cooperatives, nonprofit foundations, nonprofit corporations, nonprofit institutions, nonprofit associations, regional planning councils, Native entities, economic development authorities, or any partnership of two (2) or more of these entities.

Estimated Number of Respondents: 550 for SDEGP application, 700 for MMG application.

Estimated Time per Response: 8 hours for SDEGP application, 14 for MMG application.

Estimated Total Annual Burden Hours: 14,200.

Estimated Total Annual Cost to Public: $677,766.

Respondent's Obligation: Mandatory.

Legal Authority: Section 60304(c) of the Infrastructure Investment and Jobs Act of 2021, Public Law 117-58, 135 Stat. 429 (November 15, 2021)

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-18408 Filed 8-25-22; 8:45 am]

BILLING CODE 3510-60-P